DEPARTMENT OF DEFENSE

Department of the Army

[Docket ID: USA-2009-0028]

Proposed Collection; Comment Request

AGENCY: Office of the Administrative Assistant to the Secretary of the Army, (OAA-RPA), DoD.

ACTION: Notice.

SUMMARY: In compliance with Section 3506(c)(2)(A) of the Paperwork Reduction Act of 1995, the Department of the Army announces the extension of a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 30, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Department of the Army, Corps of Engineers, Institute for Water Resources, 7701 Telegraph Road, (CEIWR-MD), Alexandria, Virginia 22315-3868. ATTN: (Stuart A. Davis), or call Department of the Army Reports Clearance Officer at (703) 428-6440.

Title and OMB Number: Corps of Engineers Civil Works Questionnaire—Generic Clearance; OMB Control Number 0710-0001.

Needs and Uses: The U.S. Army Corps of Engineer utilizes the data collected from the questionnaire items for planning data to formulate and evaluate alternative water resources development plans, to determine the effectiveness and evaluate the impacts of Corps projects, and in the case of the flood damage mitigation, to obtain information on flood damage incurred, whether or not a project is being considered or exists. All survey questionnaires are administered either by face-to-face, mail, or telephone methods. Public surveys are used to gather data for planning and operating Corps projects and facilities and to determine public preferences and satisfaction.

Affected Public: Individuals or households; business or other for-profit; not-for-profit institutions; farms; State, local or tribal government.

Annual Burden Hours: 21,642.

Number of Respondents: 185,500.

Responses per Respondent: 1.

Average Burden per Response: 7 minutes.

Frequency: On occasion.

SUPPLEMENTARY INFORMATION:

Summary of Information Collection

All survey questionnaires are carefully selected to minimize undue burden on the public and are subject to internal controls and pre-testing before actual use. Duplication is avoided by close coordination with state and local agencies as well as other Federal agencies and, whenever possible, participation in joint data collection efforts. Most of the Corps of Engineers civil works survey information is collected for very unique circumstances, such as visitor information at Corps recreation areas or flood damage information related to the Corps evaluation procedures. Much of this information is required to be very current and must be updated every one to two years.

Dated: September 21, 2009.
Patricia L. Toppings,
OSD Federal Register Liaison Officer, Department of Defense.

[FR Doc. E9-23417 Filed 9-28-09; 8:45 am]

BILLING CODE 5001-06-P